FEDERAL COMMUNICATIONS COMMISSION

47 CFR Part 64

[CC Docket No. 96-128; FCC 03-235]

The Pay Telephone Reclassification and Compensation Provisions of the Telecommunications Act of 1996

AGENCY: Federal Communications Commission.

ACTION: Final rule; confirmation of effective date.

SUMMARY: The Federal Communications Commission received Office of Management and Budget (OMB) approval for the new public information collection, Pay Telephone Reclassification and Compensation Provisions of the Telecommunications Act of 1996, CC Docket 96-128, OMB Control Number 3060-1046. The Commission previously announced in a notice that OMB Control No. 3060-1046 and associated rules 47 CFR 64.1300, 64.1310, and 64.1320 became effective July 1, 2004 (69 FR 26825 May 14, 2004). By this document, we confirm that OMB Control No. 3060-1046 and the associated final rules 47 CFR 64.1300, 64.1310, and 64.1320 were effective on July 1, 2004.

DATES: The rules in 47 CFR 64.1300, 64.1310, 64.1320 published at 68 FR 62751 (November 6, 2003) became effective July 1, 2004.

FOR FURTHER INFORMATION CONTACT: Darryl Cooper Attorney-Advisor, Competition Policy Division, Wireline Competition Bureau, at (202) 418-7131, or via the Internet at darryl.cooper@fcc.gov or Denise A. Coca, Attorney-Advisor, Competition Policy Division, Wireline Competition Bureau, at (202) 418-0574, or via the Internet at denise.coca@fcc.gov.

SUPPLEMENTARY INFORMATION: The Federal Communications Commission has received OMB approval for a new information collection in Pay Telephone Reclassification and Compensation Provisions of the Telecommunications Act of 1996, CC Docket 96-128, 68 FR 62751, November 6, 2003, which adopts new rules that place liability to compensate a payphone service provider for payphone-originated calls on the facilities-based carrier, as defined in the rules, that completes these calls on switches that the carrier leases or owns. Through this document, the Commission confirms that it received OMB approval on May 5, 2004; OMB Control No. 3060-1046. Accordingly, the interim rules were vacated, and the effective date for this collection and associated final rules 47 CFR 64.1300, 64.1310, and 64.1320 was July 1, 2004.

Pursuant to the Paperwork Reduction Act of 1995, Public Law 104-13, an agency may not conduct or sponsor a collection of information unless it displays a currently valid control number. Notwithstanding any other provisions of law, no person shall be subject to any penalty for failing to comply with a collection of information subject to the Paperwork Reduction Act that does not display a valid control number. Questions concerning the OMB control numbers and expiration dates should be directed to Paul J. Laurenzano, Federal Communications Commission, 445 12th Street, SW., Washington DC 20554, (202) 418-1359 or via the Internet at plaurenz@fcc.gov.

Federal Communications Commission.
William F. Caton,
Deputy Secretary.

[FR Doc. 04-27051 Filed 12-8-04; 8:45 am]

BILLING CODE 6712-01-P